DEPARTMENT OF DEFENSE

Department of Navy

Notice of Intent To Prepare an Environmental Impact Statement for TRIDENT Support Facilities Explosives Handling Wharf, Naval Base Kitsap-Bangor, Silverdale, Kitsap County, WA and To Announce Public Scoping Meeting

AGENCY: Department of Navy, DoD.

ACTION: Notice.

SUMMARY: Pursuant to section 102 of the National Environmental Policy Act of 1969, and the regulations implemented by the Council on Environmental Quality (40 CFR parts 1500-1508), the Department of Navy (Navy) announces its intent to prepare an Environmental Impact Statement (EIS) to evaluate the potential environmental impacts associated with the construction and operation of a proposed new Explosives Handling Wharf (EHW) located adjacent to, but separate from, the existing EHW on Hood Canal, NBK-Bangor, WA, to support TRIDENT submarines.

The proposed action consists of in-water and land-based construction including a covered ordnance operations area, a support building on the wharf, and a warping wharf. A warping wharf is a long narrow wharf extension used to position submarines prior to moving into the operations area of the EHW.

As part of the U.S. Navy's sea-based strategic deterrence mission, the Navy Strategic Systems Programs (SSP) directs research, development, manufacturing, test, evaluation, and operational support of the TRIDENT Fleet Ballistic Missile program. SSP is the Action Proponent and the Navy is the lead agency for this project.

On June 10, 2008, the Navy provided notice in the Federal Register (73 FR 32682) of its intent to prepare an EIS for a TRIDENT Support Facilities EHW and to announce a public scoping meeting. On June 30, 2008, the Navy provided notice in the Federal Register (73 FR 36847) of its decision to cancel the June 10, 2008 Notice of Intent. The Notice of Intent was cancelled to allow the Navy the opportunity to review and validate the need for the project and identify other alternative solutions to the proposed construction. After a thorough review, the Navy has now revalidated the requirement for a second EHW at NAVBASE Kitsap Bangor.

The Navy will hold three public scoping meetings for the purpose of further identifying the scope of issues to be addressed in the EIS. Federal, State, and local agencies and the public are invited to participate in the scoping process for the EIS. Comments are being solicited to help identify significant issues or concerns related to the proposed action, determine the scope of issues to be addressed in the EIS, and identify and refine alternatives to the proposed action.

The Navy will conduct public scoping meetings to receive oral and/or written comments on environmental concerns that should be addressed in the EIS. The public scoping meetings will be conducted in English and will be arranged in an informal, open house format. Attendees will be asked to sign in and will be directed to various stations manned by Navy representatives and technical staff who will provide information and answer questions. Several large display boards will be located throughout the meeting locations to assist attendees in understanding the project and the alternatives. A comment table, supplied with comment sheets, will be placed in an easily accessible and comfortable location. Fact sheets about the project and alternatives will be available to participants.

DATES: Dates and Addresses: The public scoping meetings will be held from 5:30 p.m. to 8:30 p.m. on the following dates and locations:

1. June 23, 2009 at the Poulsbo Fire Station Main Headquarters, Multipurpose Room, 911 NE. Liberty Road, Poulsbo, WA;

2. June 24, 2009 at the Port Ludlow Fire Station 31, Training Room, 7650 Oak Bay Road, Port Ludlow, WA;

3. June 25, 2009 at the John Stanford Center for Educational Excellence, Auditorium, 2445 3rd Avenue South, Seattle WA.

FOR FURTHER INFORMATION CONTACT: Mr. Patrick Grzelak, Public Affairs Officer, Department of the Navy, Strategic Systems Programs, 2521 South Clark Street, Suite 1000, Arlington, VA 22202-3930, telephone: 703-601-9008, e-mail at: nbkehweis@ssp.navy.mil.

SUPPLEMENTARY INFORMATION: The purpose of the proposed action is to support current and future TRIDENT Fleet Ballistic Missile program requirements at NAVBASE Kitsap Bangor, WA. The proposed action is to construct and operate a proposed new EHW located adjacent to, but separate from, the existing EHW on Hood Canal to support TRIDENT submarines. A new EHW is needed to ensure the Navy has the facilities required to offload/load missiles and perform routine operations and upgrades necessary to maintain the TRIDENT program.

As part of the U.S. Navy's sea-based strategic deterrence mission, the TRIDENT submarines play a critical role of great strategic importance for the U.S. The Navy has only two Strategic Weapons Facilities for TRIDENT submarines. One in the Atlantic located in Kings Bay, Georgia and one in the Pacific located in Bangor, Washington. The Bangor facility has over time been upgraded, converted, and expanded, to handle variations in missile systems. Today's modern missile is a much more complex system, and takes more than twice the time to maintain and handle thus requiring additional Explosive Handling Wharf facilities to meet the current mission. The new EHW is needed to maintain operational availability of the TRIDENT Program in the Pacific. The purpose of the proposed action is to meet current and future technical program requirements for the TRIDENT mission.

Alternatives for the proposed action were identified based on capability for meeting TRIDENT Program mission requirements, ability to avoid or minimize environmental impacts, siting requirements including proximity to existing infrastructure, availability of waterfront property, constructability of essential project features, and explosives safety restrictions.

Alternatives currently under consideration include: (1) Deep-Water Trestle EHW; (2) Onshore Trestle EHW; (3) No Action Alternative. For both action alternatives, the EHW would be located in deep water, parallel to and 600 feet from the shore, and placement of structures over the intertidal zone would be minimized. The new EHW would include a covered operations area approximately 600 feet long and 250 feet wide, supplemented by an uncovered wharf extension approximately 700 feet long and 35 feet wide.

The wharf would either be an anchored floating structure or a structure supported by piles. Separate pile-supported entrance and exit trestles, or bridges, would provide a roadway for missile transport vehicles to travel from shore to the EHW and back to shore. For both action alternatives, the entrance trestle would be constructed from the end of the existing EHW access road to connect to the north end of the new EHW. The two action alternatives differ in the location of the exit trestle, which would connect the south end of the new EHW to the existing EHW access road.

Under the Deep-Water Trestle alternative, parallel entry and exit trestles would be constructed to transport ordnance to and from the wharf. The exit trestle would be constructed over deep water to the extent possible, crossing the intertidal zone and returning to land at the existing EHW access road. The Deep-Water Trestle alternative would require approximately 900 feet of additional in-water construction but would avoid construction of a road on the steep embankment adjacent to the proposed EHW site.

For the Onshore Trestle alternative, the exit trestle would be constructed to take the shortest distance to shore from the south end of the new EHW. This alternative would require extension of the exit trestle approximately 1,400 feet along the edge of the steep embankment on the shore, away from the intertidal zone, to connect to the existing access road.

No decision will be made to implement any alternative until the EIS process is complete, with the release of the Record of Decision. Phased construction of the project would be completed in four years.

The impacts to be evaluated include, but will not be limited to, impacts on fish and marine mammals, essential fish habitat, effects on endangered and threatened species, impacts relating to underwater sound and underwater habitat, impacts to the migratory and transient movement of fish along the shore, impacts on cultural resources, reduction in water quality, impacts on wetlands, terrestrial impacts, effects on Tribal resources, and human health and public safety.

The analysis will include an evaluation of direct, indirect, short term, and long term impacts from the construction and operation of the new EHW and will account for cumulative impacts from other Navy and non-Navy activities in the project area.

The Navy is initiating the scoping process to identify community concerns and local issues to be addressed in the EIS. Federal agencies, State agencies, local agencies, and interested persons are encouraged to provide written comments in addition to, or in lieu of, oral comments at scheduled public scoping meetings.

Written comments must be postmarked by midnight July 17, 2009 and should be submitted to: Mr. Patrick Grzelak, Public Affairs Officer, Department of the Navy, Strategic Systems Programs, 2521 South Clark Street, Suite 1000, Arlington, VA 22202-3930, telephone: 703-601-9008, e-mail: nbkehweis@ssp.navy.mil.

Dated: May 11, 2009.
T.M. Cruz,
Lieutenant Commander, Alternate Federal Register Liaison Officer.

[FR Doc. E9-11004 Filed 5-14-09; 8:45 am]

BILLING CODE 3810-FF-P